DEPARTMENT OF COMMERCE

National Oceanic and Atmospheric Administration

50 CFR Part 622

[I.D. 012902A]

Fisheries of the Caribbean, Gulf of Mexico, and South Atlantic; Reef Fish Fishery of the Gulf of Mexico; Coastal Migratory Pelagic Resources of the Gulf of Mexico and South Atlantic; Public Hearings/Scoping Meetings

AGENCY: National Marine Fisheries Service (NMFS), National Oceanic and Atmospheric Administration (NOAA), Commerce.

ACTION: Notice of intent to prepare a draft supplemental impact statement (DSEIS) and notice of public hearings/scoping meetings; request for comments.

SUMMARY: The Gulf of Mexico Fishery Management Council (Council) intends to prepare a DSEIS to assess the impacts on the natural and human environments of the proposed measures in the Draft Secretarial Amendment to the Reef Fish Fishery Management Plan (Draft red grouper Amendment) which is being prepared by the Council and NMFS. The Draft red grouper Amendment would establish a rebuilding plan for red grouper in the Gulf of Mexico. The Council will convene public hearings to receive comments on the proposed measures of the Draft red grouper Amendment and to serve as scoping hearings to solicit public comments on the scope of issues to be addressed in the DSEIS. In conjunction with each public hearing on the Draft red grouper Amendment, a scoping meeting will also be held to obtain comments on whether the Council should begin to develop a regulatory amendment under the Coastal Migratory Pelagics Fishery Management Plan to address prohibitions on the use of pelagic longlines to harvest dolphin (fish) in the Gulf of Mexico. This scoping meeting is being held by the Council under its internal scoping process to receive public comments on whether development of a management action should proceed.

DATES: The public hearings/scoping meetings will be held in February. See SUPPLEMENTARY INFORMATION for specific dates and times of the public hearings.

ADDRESSES: Written comments should be sent to, and copies of the Draft red grouper Amendment and options for the CMP scoping meetings are available from, the Gulf of Mexico Fishery Management Council, 3018 U.S. Highway 301, North, Suite 1000, Tampa, FL 33619, telephone: (813) 228-2815. Public Hearings will be held in Florida, Mississippi, Louisiana, and Texas. See SUPPLEMENTARY INFORMATION for specific hearing locations.

FOR FURTHER INFORMATION CONTACT: Mr. Steven Atran, Population Dynamics Statistician, Gulf of Mexico Fishery Management Council; telephone: (813) 228-2815.

SUPPLEMENTARY INFORMATION: The public hearings will be convened to receive comments on the Draft red grouper Amendment, which would establish a rebuilding plan for red grouper in the Gulf of Mexico, and to serve as scoping hearings to solicit public comments on the scope of issues to be addressed in the DSEIS. Red grouper were declared to be overfished and undergoing overfishing by the Acting Southeast Regional Administrator for the National Marine Fisheries Service in October 2000. The Council originally began developing a red grouper rebuilding plan as part of Draft Reef Fish Amendment 18, which addressed a number of other reef fish issues. However, due to delays in the development of Draft Reef Fish Amendment 18, the Council chose to separate out the red grouper rebuilding plan and proceed with it through a separate action.

At each scoping hearing on the Draft red grouper Amendment, the Council will solicit public comments on the scope of issues to be addressed in the DSEIS. A scoping meeting under the Council's internal policy will also be held to obtain comments on whether the Council should begin to develop a regulatory amendment under the Coastal Migratory Pelagics (CMP) Fishery Management Plan to address prohibitions on the use of pelagic longlines to harvest dolphin (fish) in the Gulf of Mexico.

The Draft red grouper Amendment proposal contains alternatives for determining the sustainable fishing parameters on which a rebuilding plan is based. These include maximum sustainable yield (MSY), the fishing mortality rate that produces MSY (FMSY), the biomass or biomass proxy that supports MSY (BMSY), the minimum stock size threshold below which a stock is considered to be overfished, the maximum fishing mortality threshold above which a stock is considered to be undergoing overfishing, and optimum yield. The Draft red grouper Amendment also contains alternatives for selecting a rebuilding strategy and rebuilding scenarios (combinations of management measures) to achieve rebuilding. In addition to the pre-constructed scenarios, the Draft red grouper Amendment contains individual alternatives to adjust the shallow-water grouper quota, implement or adjust closed seasons, implement commercial trip limits, adjust recreational bag limits, establish closed areas, move the longline/buoy gear boundary, and phase out the use of longlines and buoy gear for reef fish fishing.

The public hearings/scoping meetings will meet from 6:30 p.m. to 10 p.m. at the following locations and dates.

1. Monday, February 18, 2002: Edison Community College, Lee County Campus, Corbin Auditorium, Building J-103, 8099 College Parkway, Fort Myers, FL 33919, telephone: 941-489-9300. Use Shoreline Blvd entrance. Park in 1st lot on right [Lot 8]. For Map directions see: http://www.edison.edu/aboutecc/lee_campus.htm;

2. Tuesday, February 19, 2002: Tampa Airport Hilton, 2225 Lois Avenue, Tampa, FL 33607, telephone: 813-877-6688;

3. Tuesday, February 19, 2002: Mississippi Department of Marine Resources, 1141 Bayview Drive, Biloxi, MS 39530, telephone: 228-374-5000;

4. Wednesday, February 20, 2002: Plantation Inn, 9301 West Fort Island Trail, Crystal River, FL 34429, telephone: 352-795-4211;

5. Wednesday, February 20, 2002: New Orleans Airport Hilton, 901 Airline Drive, Kenner, LA, telephone: 504-469-5000;

6. Thursday, February 21, 2002: National Marine Fisheries Service, 3500 Delwood Beach Road, Panama City, FL 32408, telephone: 850-234-6541; and

7. Thursday, February 21, 2002: Texas A&M University, 200 Seawolf Parkway, Galveston, TX 77553, telephone: 409-740-4416.

In addition to the above hearings, public testimony will be accepted on the Draft red grouper Amendment at the Gulf Council meeting where final action will be taken, in Sarasota, FL, on July 10, 2002. Written comments on the scope of the DSEIS for the Red Grouper rebuilding plan will be accepted if received at the Council office by April 1, 2002. Written comments on the Red Grouper rebuilding plan will be accepted if received at the Council office by June 13, 2002.

These meetings are physically accessible to people with disabilities. Requests for sign language interpretation or other auxiliary aids should be directed to Anne Alford at the Council (see ADDRESSES).

Dated: February 11, 2002.
Bruce C. Morehead,
Deputy Director, Office of Sustainable Fisheries,National Marine Fisheries Service.

[FR Doc. 02-3817 Filed 2-14-02; 8:45 am]

BILLING CODE 3510-22-S